DEPARTMENT OF HEALTH AND HUMAN SERVICES

Administration for Children and Families

Submission for OMB Review; Replication of Recovery and Reunification Interventions for Families-Impact Study (New Collection)

AGENCY: Office of Planning, Research, and Evaluation, Administration for Children and Families, Department of Health and Human Services.

ACTION: Request for public comments.

SUMMARY: The Administration for Children and Families (ACF) is proposing a data collection activity as part of the Replication of Recovery and Reunification Interventions for Families-Impact Study (R3-Impact). The R3-Impact Study aims to satisfy the legislative requirements called for by the 2018 SUPPORT for Patients and Communities Act by replicating and testing the efficacy of two recovery coaching interventions for families engaged in the child welfare system due to parental substance use disorders.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. Identify all requests by the title of the information collection.

SUPPLEMENTARY INFORMATION:

Description: The R3-Impact study will use experimental and quasi-experimental designs to test the effectiveness of the recovery coaching interventions on key child welfare and parent well-being outcomes. The implementation study will document the fidelity of program implementation, describe the services participants receive under each approach, and provide operational lessons gathered directly from practitioners. These goals represent ACF's interest in understanding whether recovery coaching interventions yield successful parental recovery and child welfare outcomes, and if so, whether the potential exists to scale the interventions for the benefit of more affected families. The proposed information collection activity consists of (1) Baseline data collection: collection of baseline demographic and parent well-being data from study participants; (2) Contact form: short form sent to study participants quarterly for one year after study enrollment to keep contact information current and generally maintain the participant's connection to the study; (3) Validation interviews: short interviews with a subset of study participants to monitor the quality of data collection interviews and to validate that the interviewer spoke with the participant; (4) Implementation study interviews: using topic guides, collect information from program supervisors and frontline staff, community providers, child welfare staff, and parents enrolled in the programs to assess the fidelity of implementation, document program services, and gather operational lessons; and (5) Parent Interview Information Form: demographic information to support analysis of parent perspectives by personal characteristics and history. Future information collection requests will be submitted to collect follow-up data.

Respondents: Parents enrolled in the R3-Impact Study, and program and agency staff involved in implementing the R3 interventions.

Annual Burden Estimates
Instrument | Number of respondents (total over request period) | Number of responses per respondent (total over request period) | Avg. burden per response (in hours) | Total burden (in hours) | Annual burden (in hours)
Baseline Parent Survey | 2,750 | 1 | .75 | 2063 | 688
Contact Form | 1,843 | 4 | .17 | 1,253 | 418
Validation Interviews | 275 | 1 | .08 | 22 | 7
Topic Guide-Child Welfare Lead Staff | 60 | 1 | 1 | 60 | 20
Topic Guide-Child Welfare Frontline Staff | 60 | 1 | 1 | 60 | 20
Topic Guide-Partners | 120 | 1 | 1 | 120 | 40
Topic Guide-Program Managers | 60 | 1 | 1.5 | 90 | 30
Topic Guide-Mentor Supervisors | 60 | 1 | 1.5 | 90 | 30
Topic Guide-Parent/Family Mentors | 60 | 1 | 1.5 | 90 | 30
Topic Guide-Parents | 30 | 1 | 1 | 30 | 10
Parent Interview Information Form | 30 | 1 | .1 | 3 | 1

Estimated Total Annual Burden Hours: 1,294.

Authority: The Substance Use-Disorder Prevention that Promotes Opioid Recovery and Treatment for Patients and Communities Act (SUPPORT for Patients and Communities Act; Pub. L. 115-271)

Mary B. Jones,
ACF/OPRE Certifying Officer.

[FR Doc. 2023-17364 Filed 8-11-23; 8:45 am]

BILLING CODE 4184-01-P